DEPARTMENT OF ENERGY

Federal Energy Regulatory Commission

[Project No. 14682-000]

Adam R. Rousselle II; Notice of Preliminary Permit Application Accepted for Filing and Soliciting Comments, Motions To Intervene, and Competing Applications

On June 17, 2015, Adam R. Rousselle II filed an application for a preliminary permit under section 4(f) of the Federal Power Act proposing to study the feasibility of the proposed Paint Creek Dam Water Power Project No. 14682-000, to be located at the existing U.S. Army Corps of Engineers' Paint Creek Lake, near the town of Bainbridge, Highland County, Ohio. The sole purpose of a preliminary permit, if issued, is to grant the permit holder priority to file a license application during the permit term. A preliminary permit does not authorize the permit holder to perform any land-disturbing activities or otherwise enter upon lands or waters owned by others without the owners' express permission.

The proposed project would be located completely within lands owned by the United States and use an existing concrete intake tower located in Paint Creek Lake and an existing 1,100-foot-long, 48-foot-diameter tunnel conveying the lake water from the intake tower to the outlet works downstream of the dam. The proposed project would consist of the following new facilities: (1) Two 80-foot-long, 8-foot-diameter steel penstocks attached to the outlet works and ending at the turbine assembly; (2) a 50-foot-long, 30-foot-wide, 30-foot-high concrete powerhouse located approximately 100 feet downstream of the outlet works and containing two Kaplan turbine-generators with a combined installed capacity of 2.14 megawatts; (3) a 500-foot-long, 14.7 kilovolt transmission line; and (4) appurtenant facilities. The project is estimated to generate 13,100 megawatt hours annually.

Applicant Contact: Adam R. Rousselle II, 104 Autumn Trace Drive, New Hope, PA 18938; phone: 215-485-1708.

FERC Contact: Sergiu Serban, (202) 502-6211.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14682-000.

More information about this project, including a copy of the application, can be viewed or printed on the “eLibrary” link of Commission's Web site at http://www.ferc.gov/docs-filing/elibrary.asp. Enter the docket number (P-14682) in the docket number field to access the document. For assistance, contact FERC Online Support.

Dated: September 9, 2015.
Kimberly D. Bose,
Secretary.

[FR Doc. 2015-23151 Filed 9-14-15; 8:45 am]

BILLING CODE 6717-0-1P